DEPARTMENT OF COMMERCE

International Trade Administration

[A-357-812]

Honey From Argentina: Notice of Extension of Time Limit for Preliminary Results and Partial Rescission of Antidumping Duty Administrative Review

AGENCY: Import Administration, International Trade Administration, Department of Commerce.

SUMMARY: The U.S. Department of Commerce (the Department) is rescinding in part the administrative review of the antidumping duty order on honey from Argentina for the period December 1, 2008, to November 30, 2009 with respect to fifteen companies. This rescission, in part, is based on the timely withdrawal of the request for review by the interested parties that requested the review. A complete list of the companies for which the administrative review is being rescinded is provided in the background section below. Additionally, the Department is extending the preliminary results of this administrative review to no later than January 7, 2011.

DATES: Effective Date: September 14, 2010.

FOR FURTHER INFORMATION CONTACT: David Cordell or Ericka Ukrow, AD/CVD Operations, Office 7, Import Administration, International Trade Administration, U.S. Department of Commerce, 14th Street and Constitution Avenue, NW., Washington, DC 20230; telephone: (202) 482-0408 and (202) 482-0405, respectively.

SUPPLEMENTARY INFORMATION:

Background

On December 1, 2009, the Department published in the Federal Register a notice of opportunity to request an administrative review of the antidumping duty order on, inter alia, honey from Argentina. See Antidumping or Countervailing Duty Order, Finding, or Suspended Investigation; Opportunity to Request Administrative Review, 74 FR 62743 (December 1, 2009). In response and pursuant to 19 CFR 351.213(b)(2), on December 31, 2009, the Asociacion de Cooperativas Argentinas S.A. (ACA), Nexco S.A. (Nexco), and Compania Inversora Platense S.A. (CIPSA) requested an administrative review of the antidumping duty order on honey from Argentina for the period December 1, 2008, through November 30, 2009. Pursuant to 19 CFR 351.213(b)(1), the American Honey Producers Association and the Sioux Honey Association (collectively, petitioners), also on December 31, 2009, requested that the Department conduct an administrative review of the antidumping duty order on honey from Argentina for the December 1, 2008, through November 30, 2009 period of review (POR) of entries of subject merchandise made by eighteen Argentine producers/exporters.

On January 29, 2010, the Department initiated a review on seventeen companies ¹ for which an administrative review was requested. See Initiation of Antidumping and Countervailing Duty Administrative Reviews, Request for Revocation in Part, and Deferral of Initiation of Administrative Review, 75 FR 4770 (January 29, 2010) (Initiation Notice). On February 17, 2010, the Department informed interested parties to this administrative review of its intent to limit the number of companies to be examined. The Department encouraged all interested parties to submit comments regarding the use of U.S. Customs and Border Protection entry data for respondent selection purposes. See the Memorandum to the File, “United States Customs and Border Protection Entry Data for Selection of Respondents for Individual Review,” dated February 17, 2010. On March 5, 2010, the Department selected the four producers/exporters with the largest export volume during the POR as mandatory respondents: HoneyMax S.A. (HoneyMax), Nexco S.A. (Nexco), Patagonik S.A. (Patagonik), and TransHoney S.A. (TransHoney). See the Memorandum to Richard Weible, “Administrative Review of the Antidumping Duty Order on Honey from Argentina: Respondent Selection Memorandum,” dated March 5, 2010. On March 9, 2010, the Department issued its antidumping duty questionnaire to all four mandatory respondents. On March 31, 2010 and pursuant to 19 CFR 351.213(d)(1), petitioners timely withdrew their request for review of Honey Max. On April 7, 2010, petitioners and Nexco timely withdrew their requests for review for Nexco. On April 16, 2010, petitioners timely withdrew their request for review with respect to all companies except TransHoney, Patagonik, CIPSA, and ACA. Accordingly, the Department informed interested parties of its intent to rescind the review for all companies except TransHoney, Patagonik, and CIPSA, to continue with its deferral of the review with respect to ACA, and to select CIPSA as a mandatory respondent. See the Memorandum to the File, “2008/2009 Administrative Review of the Antidumping Duty Order on Honey from Argentina: Selection of New Mandatory Respondent,” dated April 19, 2010.

¹ The Federal Register notice lists eighteen companies; however, the Department received a timely request by ACA to defer for one year the initiation of the December 1, 2008, through November 30, 2009 administrative review of its sales and entries of honey subject to the antidumping duty order on honey from Argentina in accordance with 19 CFR 351.213(c). The Department received no objections to this request from any party cited in 19 CFR 351.213(c)(1)(ii), and therefore deferred for one year the initiation of the review for such exporter in accordance with 19 CFR 351.213(c). See Initiation Notice, 75 FR at 4772-73.

On April 29, 2010, ACA timely withdrew its request for review submitted on December 31, 2009.²

² The withdrawal of the request for review was submitted by ACA based on the Department's notification in the Federal Register revoking the antidumping duty order with respect to honey exported by ACA effective December 1, 2008. Because the order covering honey from Argentina is revoked with respect to ACA, all entries of subject merchandise exported by ACA will be liquidated without antidumping duties. Accordingly, there will be no relevant entries that might be subject to an antidumping review. See Honey from Argentina: Final Results of Antidumping Duty Administrative Review and Determination to Revoke Order in Part, 75 FR 23674 (May 4, 2010).

Period of Review

The POR is December 1, 2008, through November 30, 2009.

Scope of the Order

The product covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to the order is currently classifiable under subheadings 0409.00.00, 1702.90.90, and 2106.90.99 of the Harmonized Tariff Schedule of the United States (HTSUS). Although the HTSUS subheadings are provided for convenience and customs, the Department's written description of the merchandise under this order is dispositive.

Rescission, in Part, of Administrative Review

Pursuant to 19 CFR 351.213(d)(1), the Secretary will rescind an administrative review under this section, in whole or in part, if a party that requested a review withdraws the request within 90 days of the date of publication of notice of initiation of the requested review.

Based on petitioners' and respondents' withdrawal of their requests of administrative review within the 90-day deadline, the Department is rescinding, in part, the antidumping duty administrative review on honey from Argentina for the period December 1, 2008 to November 30, 2009 with respect to the following companies: AGLH S.A., Algodonera Avellaneda S.A., Alimentos Naturales-Natural Foods, Alma Pura, Bomare S.A., Compania Apicola Argentina S.A., El Mana S.A., Interrupcion S.A., Mielar S.A., Miel Ceta SRL., Productos Afer S.A., Seabird Argentina S.A., Honey Max, Nexco, and ACA.

Extension of Time Limit for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department has determined it is not practicable to complete this review within the statutory time limit because we require additional time to gather cost of production data for Patagonik's suppliers of honey and sales information from CIPSA. The time needed to analyze cost of production data and CIPSA's sales information and to develop fully the record in this administrative review makes it impracticable to complete the preliminary results of this review within the originally specified time limit. Accordingly, the Department is extending the time limit for completion of the preliminary results of this administrative review to the maximum of 365 days.

Tolling of Deadlines

In addition, the Department exercised its discretion to toll deadlines for the duration of the closure of the Federal Government from February 5, through February 12, 2010, as explained in the memorandum from the Deputy Assistant Secretary (DAS) for Import Administration. Thus, all deadlines in this segment of the proceeding were extended by seven days. See Memorandum to the Record from Ronald Lorentzen, DAS for Import Administration, regarding

“Tolling of Administrative Deadlines As a Result of the Government Closure During the Recent Snowstorm,” dated February 12, 2010. Therefore, the deadline for the preliminary results of this review became no later than January 7, 2011. We intend to issue the final results no later than 120 days after publication of the notice of our preliminary results of review.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

Notification Regarding Administrative Protective Orders

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(3)(A) and 777(i)(1) of the Act.

Dated: September 8, 2010.
Susan H. Kuhbach,
Acting Deputy Assistant Secretary for Antidumping and Countervailing Duty Operations.

[FR Doc. 2010-22899 Filed 9-13-10; 8:45 am]

BILLING CODE 3510-DS-P